DEPARTMENT OF COMMERCE

Foreign-Trade Zones Board

[Order Nos. 1134, 1136 and 1137]

Notice of Correction

On December 28, 2000 and January 22, 2001, the Foreign-Trade Zones Board published in the Federal Register Board Orders 1134, 1136 and 1137 approving subzone status for Phillips Petroleum Company in Borger, Texas; Sunoco, Inc. in Toledo, Ohio; and Conoco, Inc. in Ponca City, Oklahoma, subject to restrictions. Subsequent to the publication of these notices, we identified an inadvertent error in Restriction #2 of each order as published. Restriction #2 of Board Orders 1134, 1136, and 1137 should read as follows:

2. Privileged foreign status (19 CFR 146.41) shall be elected on all foreign merchandise admitted to the subzone, except that non-privileged foreign (NPF) status (19 CFR 146.42) may be elected on refinery inputs covered under HTSUS Subheadings #2709.00.1000-#2710.00.1050, #2710.00.2500 and #2710.00.4510 which are used in the production of:

—Petrochemical feedstocks (examiner's report, Appendix “C”);

—Products for export; and,

—Products eligible for entry under HTSUS #9808.00.30 and #9808.00.40 (U.S. Government purchases).

This language reflects the text of Board Orders 1134, 1136 and 1137 as approved by the Foreign-Trade Zones Board. This correction is made pursuant to 15 C.F.R. 400.12(c).

Dated: March 26, 2001.
Dennis Puccinelli,
Executive Secretary.

[FR Doc. 01-8033 Filed 3-30-01; 8:45 am]

BILLING CODE 3510-DS-P